DEPARTMENT OF COMMERCE

International Trade Administration

[A-357-812, C-357-813]

Honey From Argentina; Antidumping and Countervailing Duty Changed Circumstances Reviews; Preliminary Intent To Revoke Antidumping and Countervailing Duty Orders

AGENCY: Import Administration, International Trade Administration, Department of Commerce.

DATES: Effective Date: November 14, 2012.

FOR FURTHER INFORMATION CONTACT: Patrick Edwards or Angelica Mendoza, AD/CVD Operations, Office 7, Import Administration, International Trade Administration, U.S. Department of Commerce, 14th Street and Constitution Avenue NW., Washington, DC 20230, at (202) 482-8029 or (202) 482-3019, respectively.

SUMMARY: On October 2, 2012, in response to a request by domestic producers of the subject merchandise, the Department of Commerce (the Department) published a notice of initiation of changed circumstances reviews of the antidumping and countervailing duty orders on honey from Argentina.¹ In the Initiation Notice, we invited interested parties to comment on the Department's initiation. We received no comments from domestic parties. Therefore, we preliminarily conclude that producers accounting for substantially all of the production of the domestic like product to which these orders pertain lack interest in the relief provided by the antidumping and countervailing duty orders. Accordingly, we are notifying the public of our preliminary intent to revoke the antidumping duty order, in whole, with respect to products entered, or withdrawn from warehouse, for consumption on or after December 1, 2010, and the countervailing duty order, in whole, with respect to products entered, or withdrawn from warehouse, for consumption on or after December 1, 2011, because domestic parties have expressed no interest in the continuation of the orders after these dates.

¹ See Honey from Argentina: Notice of Initiation of Antidumping and Countervailing Duty Changed Circumstances Reviews and Consideration of Revocation of Antidumping and Countervailing Duty Orders, 77 FR 60105 (October 2, 2012) (Initiation Notice).

SUPPLEMENTARY INFORMATION:

Background

On December 10, 2001, the Department published the antidumping and countervailing duty orders on honey from Argentina.² On July 24, 2012, the American Honey Producers Association and the Sioux Honey Association (collectively, petitioners) requested that the Department revoke the AD Order, effective December 1, 2010, based on the domestic U.S. industry's lack of further interest.³ On August 22, 2012, the petitioners requested that the Department revoke the CVD Order, effective December 1, 2011, again based on their lack of further interest in these proceedings.⁴

² See Notice of Antidumping Duty Order: Honey from Argentina, 66 FR 63672 (December 10, 2001) (AD Order) and Notice of Countervailing Duty Order: Honey from Argentina, 66 FR 63673 (December 10, 2001) (CVD Order), (collectively, Orders).

³ See Letter from Petitioners, entitled “Request for `No Interest' Changed Circumstances Review of the Antidumping and Countervailing Duty Orders on Honey from Argentina,” dated July 24, 2012 (CCR Request).

⁴ See Letter from Petitioners, entitled “Supplement to Petitioners' Request for a `No-Interest' Changed Circumstances Review of the Antidumping and Countervailing Duty Orders on Honey from Argentina,” dated August 22, 2012 (Supplemental CCR Request).

On October 2, 2012, the Department published a notice of initiation of changed circumstances reviews of the Orders on honey from Argentina.⁵ In the Initiation Notice, we invited interested parties to comment on the Department's initiation. We did not receive comments from any interested party expressing opposition to the changed circumstances reviews nor to the possible revocation of the Orders.

⁵ See Initiation Notice.

Scope of the Orders

The merchandise covered by the orders is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise is currently classifiable under subheadings 0409.00.00, 1702.90.90, and 2106.90.99 of the Harmonized Tariff Schedule of the United States (HTSUS). Although the HTSUS subheadings are provided for convenience and customs purposes, the Department's written description of the merchandise under the orders is dispositive.

Preliminary Results of Reviews and Intent To Revoke, in Whole, the Orders

Pursuant to section 751(d)(1) of the Tariff Act of 1930, as amended (the Act), and 19 CFR 351.222(g), the Department may revoke an antidumping or countervailing duty order, in whole or in part, based on a review under section 751(b) of the Act (i.e., a changed circumstances review). Section 751(b)(1) of the Act requires a changed circumstances review to be conducted upon receipt of a request which shows changed circumstances sufficient to warrant a review. Section 782(h)(2) of the Act gives the Department the authority to revoke an order if producers accounting for substantially all of the production of the domestic like product have expressed a lack of interest in the continuation of the order. Section 351.222(g) of the Department's regulations provides that the Department will conduct a changed circumstances review under 19 CFR 351.216, and may revoke an order (in whole or in part), if it concludes that (i) producers accounting for substantially all of the production of the domestic like product to which the order pertains have expressed a lack of interest in the relief provided by the order, in whole or in part, or (ii) if other changed circumstances sufficient to warrant revocation exist. Both the Act and the Department's regulations require that “substantially all” domestic producers express a lack of interest in the order(s) for the Department to revoke.⁶ The Department has interpreted “substantially all” to represent producers accounting for at least 85 percent of U.S. production of the domestic like product.⁷

⁶ See section 782(h) of the Act and 19 CFR 351.222(g).

⁷ See Certain Orange Juice from Brazil: Preliminary Results of Antidumping Duty Changed Circumstances Review and Intent Not to Revoke, In Part, 73 FR 60241, 60242 (October 10, 2008), unchanged in Certain Orange Juice From Brazil: Final Results of Antidumping Duty Changed Circumstances Review, 74 FR 4733 (January 27, 2009); see also 19 CFR 351.208(c).

As noted above and in the Initiation Notice, the petitioners requested the revocation of these orders because they are no longer interested in maintaining the Orders or in the imposition of duties on the subject merchandise as of December 1, 2010 (AD), and December 1, 2011 (CVD). Because the Department did not receive any comments during the comment period opposing initiation of the changed circumstances review of the Orders on honey from Argentina, we preliminarily conclude that producers accounting for substantially all of the production of the domestic like product, to which these orders pertain, lack interest in the relief provided by the Orders.

In accordance with 19 CFR 351.222(g), the Department preliminarily determines that there is a reasonable basis to believe that changed circumstances exist sufficient to warrant revocation of the Orders. Therefore, the Department is notifying the public of its preliminary intent to revoke the Orders on honey from Argentina, in whole.

Unless the Department receives opposition within the time limit set forth below from domestic producers whose production, cumulatively, totals more than 15 percent of the domestic like product, the Department will revoke the Orders on honey from Argentina in its final results of review. If, as a result of these reviews, we revoke the Orders, we intend to instruct U.S. Customs and Border Protection (CBP) to terminate suspension of liquidation effective December 1, 2010, for the AD Order, and December 1, 2011, for the CVD Order. The suspension of liquidation of estimated antidumping and countervailing duties on the subject merchandise will continue as appropriate for the period December 1, 2010, through August 2, 2012, and December 1, 2011, through August 2, 2012, respectively, unless, and until, we publish a final determination to revoke the Orders in whole.⁸ There is no requirement for a cash deposit of estimated antidumping and countervailing duties on the subject merchandise for entries on or after August 2, 2012, pursuant to the recent sunset of the Orders.⁹

⁸ The Department revoked the Orders under five-year sunset reviews on September 21, 2012, pursuant to 19 CFR 351.218(d)(1)(iii), effective August 2, 2012. See Honey From Argentina; Final Results of Sunset Reviews and Revocation of Antidumping Duty and Countervailing Duty Orders, 77 FR 58524 (September 21, 2012).

⁹ Id.

Public Comment

Interested parties may submit case briefs not later than 14 days after the date of publication of this notice.¹⁰ Rebuttal briefs, which must be limited to issues raised in such case briefs, may be filed not later than 19 days after the date of publication of this notice.¹¹ Parties who submit arguments are requested to submit with the argument (1) a statement of the issue, (2) a brief summary of the argument, and (3) a table of authorities. Any interested party may request a hearing within 7 days of publication of this notice.¹² Any hearing, if requested, may be held 21 days after the date of publication of this notice, or the first working day thereafter, as practicable. Consistent with 19 CFR 351.216(e), we will issue the final results of these changed circumstances reviews not later than 270 days after the date on which these reviews were initiated.

¹⁰ See 19 CFR 351.309(c)(ii).

¹¹ See 19 CFR 351.309(d).

¹² See 19 CFR 351.310(c).

This notice is published in accordance with section 751(b)(1) of the Act and 19 CFR 351.216, 351.221(c)(3), and 351.222.

Dated: November 5, 2012.
Paul Piquado,
Assistant Secretary for Import Administration.

[FR Doc. 2012-27678 Filed 11-13-12; 8:45 am]

BILLING CODE 3510-DS-P